DEPARTMENT OF COMMERCE

Foreign-Trade Zones Board

[B-45-2013]

Notification of Proposed Production Activity, LLFlex, LLC, Subzone 29J (Foil Backed Paperboard), Louisville, Kentucky

LLFlex, LLC (LLFlex), operator of Subzone 29J, submitted a notification of proposed production activity to the FTZ Board for its facility located in Louisville, Kentucky. The notification conforming to the requirements of the regulations of the FTZ Board (15 CFR 400.22) was received on May 6, 2013.

The subzone currently has authority to produce aluminum foil liner stock. The current request would add foil backed paperboard to the list of approved finished products. Pursuant to 15 CFR 400.14(b), FTZ activity would be limited to the specific foreign-status materials and components and specific finished products described in the submitted notification (as described below) and subsequently authorized by the FTZ Board.

Production under FTZ procedures could exempt LLFlex from customs duty payments on the foreign status components used in export production. On its domestic sales, LLFlex would be able to choose the duty rate during customs entry procedures that applies to foil backed paperboard (duty-free) for the foreign status input (converter foil, duty rate 5.8%). Customs duties also could possibly be deferred or reduced on foreign status production equipment.

Public comment is invited from interested parties. Submissions shall be addressed to the Board's Executive Secretary at the address below. The closing period for their receipt is June 24, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 9, 2013.
Andrew McGilvray,
Executive Secretary.

[FR Doc. 2013-11566 Filed 5-14-13; 8:45 am]

BILLING CODE 3510-DS-P